SURFACE TRANSPORTATION BOARD

[Docket No. EP 774]

Establishment of the Passenger Rail Advisory Committee

AGENCY: Surface Transportation Board.

ACTION: Notice of establishment of a Federal advisory committee on passenger rail service.

SUMMARY: The Surface Transportation Board (Board) has determined that it is necessary and in the public interest to establish a Federal advisory committee on passenger rail service.

FOR FURTHER INFORMATION CONTACT: Please direct any questions to Brian O'Boyle, Designated Federal Officer, at (202) 245-0364 or Brian.OBoyle@stb.gov. If you require an accommodation under the Americans with Disabilities Act, please call (202) 245-0245.

SUPPLEMENTARY INFORMATION: Pursuant to the Federal Advisory Committee Act (FACA), 5 U.S.C. Chapter 10, the Board intends to establish a new federal advisory committee, the Passenger Rail Advisory Committee (PRAC or Committee), to provide advice and recommendations to the Board on issues relating to passenger rail service. In accordance with FACA, a charter of a newly created Committee has been prepared and will be filed with the Board's congressional oversight committees at least 15 days following the date of publication of this notice, after which the Board will issue a decision seeking nominations for individuals to serve on the new committee.

Objectives and Duties of the Committee

The purpose of the PRAC is to provide advice and guidance to the Board on passenger rail issues on a continuing basis to help the Board better fulfill its statutory responsibilities in overseeing certain aspects of passenger rail service. The Committee will provide a forum for the Board and stakeholders to discuss passenger rail issues in a manner that balances the interests of intercity and commuter rail passengers and operators, government entities, freight rail carriers and their customers, railway labor, and the general public. The Committee will function as a discretionary advisory body and will comply with the provisions of FACA and its implementing regulations.

The Committee is essential to the conduct of agency business, as the Board's responsibilities and duties relating to passenger rail have expanded and become more defined in recent years. The Committee would provide the Board with valuable insight to help it better carry out these responsibilities and duties.

The scope of the Committee's activities shall include providing information, advice, and recommendations to the Board on issues impacting the development and operation of railroad passenger services, including: improving efficiency on passenger rail routes; reducing disputes between passenger rail carriers and freight rail hosts regarding the use of freight rail carrier-owned facilities and infrastructure for passenger service, including passenger on-time performance issues; and improving regulatory processes related to intercity passenger rail to the benefit of the public, the communities served by passenger rail, and the environment. The Board is interested in engaging with passenger rail stakeholders including the National Railroad Passenger Corporation (Amtrak), other intercity passenger rail operators, commuter rail operators, states that fund passenger rail, freight railroads, passenger rail advocacy groups, and railway labor on these passenger rail-related issues. Each Committee meeting will better inform the Board as to passenger rail matters.

The duties of the Committee are solely advisory and will entail only the submission of non-binding advice and recommendations to the Board. No determinations of fact or policy will be made by the Committee, and the Committee will have no decision-making role or access to non-public Board information, including the Board's decision-making process or other confidential information.

Membership of the Committee

The PRAC shall consist of approximately 18 voting members who will comprise a balanced representation of individuals knowledgeable regarding passenger rail transportation, freight rail transportation, commuter rail operations, and transportation public policy. The voting membership shall include no fewer than:

• two representatives from Amtrak;

• two representatives from commuter rail operators whose operations use facilities owned and/or utilized by (i) Amtrak, (ii) other intercity passenger rail operators, or (iii) rail freight operators (for purposes of ensuring geographic diversity within PRAC's membership, these representatives cannot be from the same state as any of the state representatives described below and cannot be from the same state as each other);

• two representatives from existing intercity passenger rail operators other than Amtrak, or developers of new intercity passenger rail lines other than Amtrak;

• one representative from a state that provides funding for intercity passenger rail (for purposes of ensuring geographic diversity within PRAC's membership, this representative cannot be from the same state as any of the representatives of the commuter rail operators described above, or the representative from a state in which the intercity passenger rail stations are served only by long-distance trains described below);

• one representative from a state in which the intercity passenger rail stations are served only by long-distance trains, i.e., passenger trains serving the entirety of routes of more than 750 miles between endpoints (for purposes of ensuring geographic diversity within PRAC's membership, this representative cannot be from the same state as any of the representatives of the commuter rail operators described above or the representative from the state that provides funding for intercity passenger rail described above);

• two representatives from Class I freight railroads;

• one representative from a Class II or Class III freight railroad;

• one representative from an organized rail labor association;

• two representatives from rail passenger advocacy organizations;

• one representative from a rail shipper or customer advocacy organization or an individual shipper or customer; and

• three at-large representatives with relevant experience (including, but not limited to, individuals involved in the design or construction of passenger rail equipment or infrastructure, in the provision of passenger rail analytic or consulting services, in transportation planning, or in transportation-related public policy work).

All voting members of the Committee shall serve on the Committee in a representative capacity on behalf of their respective industry or stakeholder group. The Members of the Board shall serve as ex officio (non-voting) members. The Chair of the Board may also invite representatives from the U.S. Department of Transportation to serve on the PRAC in an advisory capacity. These federal governmental representatives will serve as ex officio (non-voting) members.

The PRAC will meet at least twice a year, and meetings will be open to the public, consistent with the Government in the Sunshine Act, Public Law 94 409 (1976). Information about the PRAC will be posted on the Board's website at: https://www.stb.gov/resources/stakeholder-committees/prac/.

Authority: 49 U.S.C. 1321; 49 U.S.C. 24101.

Decided: November 6, 2023.
By the Board, Board Members Fuchs, Hedlund, Oberman, Primus, and Schultz.
Kenyatta Clay,
Clearance Clerk.

[FR Doc. 2023-24944 Filed 11-9-23; 8:45 am]

BILLING CODE 4915-01-P